DEPARTMENT OF COMMERCE

Foreign-Trade Zones Board

[B-06-2017]

Foreign-Trade Zone (FTZ) 20—Norfolk, Virginia; Notification of Proposed Production Activity; STIHL Incorporated (Outdoor Power Products Manufacturing); Virginia Beach, Virginia

STIHL Incorporated (STIHL) submitted a notification of proposed production activity to the FTZ Board for its facilities in Virginia Beach, Virginia within FTZ Subzone 20E. The notification conforming to the requirements of the regulations of the FTZ Board (15 CFR 400.22) was received on December 23, 2016.

STIHL already has authority to produce outdoor power products within Subzone 20E. The current request would add an additional foreign status component to the scope of authority. Pursuant to 15 CFR 400.14(b), additional FTZ authority would be limited to the specific foreign-status component described in the submitted notification (as described below) and subsequently authorized by the FTZ Board.

Production under FTZ procedures could exempt STIHL from customs duty payments on the foreign-status materials/components used in export production. On its domestic sales, STIHL would be able to choose the duty rates during customs entry procedures that apply to the blowers, trimmers, sprayers, cutters, cultivators and chain saws (duty rate free to 4.7%) for the foreign-status component noted below and in the existing scope of authority. Customs duties also could possibly be deferred or reduced on foreign-status production equipment. The additional component sourced from abroad is lithium ion batteries (duty rate 3.4%).

Public comment is invited from interested parties. Submissions shall be addressed to the Board's Executive Secretary at the address below. The closing period for their receipt is February 28, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Kemp at Christopher.Kemp@trade.gov or (202) 482-0862.

Dated: January 11, 2017.
Andrew McGilvray,
Executive Secretary.

[FR Doc. 2017-01209 Filed 1-18-17; 8:45 am]

BILLING CODE 3510-DS-P